ENVIRONMENTAL PROTECTION AGENCY

[FRL-10012-74-OA]

Notification of Two Public Teleconferences of the Chartered Science Advisory Board

AGENCY: Environmental Protection Agency (EPA).

ACTION: Notice.

SUMMARY: The Environmental Protection Agency (EPA) Science Advisory Board (SAB) Staff Office announces two public teleconferences of the chartered SAB to review the scientific and technical basis of the proposed rule “Increasing Consistency and Transparency in Considering Benefits and Costs in the Clean Air Act Rulemaking Process.”

DATES: The public teleconferences of the chartered Science Advisory Board will be held on Tuesday, August 11, 2020, from 1:00 p.m. to 5:00 p.m. (Eastern Time) and Tuesday, September 15, 2020, from 1:00 p.m. to 5:00 p.m. (Eastern Time).

ADDRESSES: The teleconferences will be conducted by telephone only. Please refer to the SAB website at http://www.epa.gov/sab for information on how to access the meeting.

FOR FURTHER INFORMATION CONTACT: Any member of the public who wants further information concerning the public teleconferences may contact Dr. Thomas Armitage, Designated Federal Officer (DFO), EPA Science Advisory Board via telephone/voice mail (202) 564-2155, or email at armitage.thomas@epa.gov. General information concerning the SAB can be found on the EPA website at http://www.epa.gov/sab.

SUPPLEMENTARY INFORMATION: Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold two public teleconferences to review the scientific and technical basis of the proposed rule “Increasing Consistency and Transparency in Considering Benefits and Costs in the Clean Air Act Rulemaking Process” described in 85 FR 35612-35627. Under the SAB's authorizing statute, the SAB “may make available to the Administrator, within the time specified by the Administrator, its advice and comments on the adequacy of the scientific and technical basis” of proposed rules. The SAB will hold two public teleconferences to receive briefings from the EPA on the proposed rule and discuss its scientific and technical basis.

Availability of Meeting Materials: Prior to the teleconferences, the agenda and other meeting materials for each teleconference will be placed on the SAB website at http://epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should contact the DFO directly.

Oral Statements: In general, individuals or groups requesting an oral presentation at a public teleconference will be limited to three minutes. Persons interested in providing oral statements should contact Dr. Thomas Armitage, DFO, in writing (preferably via email) at the contact information noted above by August 4, 2020, to be placed on the list of registered speakers for the August 11, 2020, teleconference and by September 8, 2020, for the September 15, 2020, teleconference.

Written Statements: Written statements will be accepted throughout the advisory process; however, for timely consideration by SAB members, statements should be received in the SAB Staff Office by August 4, 2020, for consideration at the public teleconference on August 11, 2020. Written statements should be received in the SAB Staff Office by September 8, 2020, for consideration at the public teleconference on September 15, 2020. Written statements should be supplied to the DFO at the contact information above via email with original signature. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Dr. Armitage at the phone number or email address noted above, preferably at least ten days prior to the meeting, to give the EPA as much time as possible to process your request.

Dated: July 20, 2020.
Thomas Brennan,
Director, EPA Science Advisory Board Staff Office.

[FR Doc. 2020-15988 Filed 7-22-20; 8:45 am]

BILLING CODE 6560-50-P